NATIONAL SCIENCE FOUNDATION

National Science Board; Sunshine Act Meeting

The National Science Board (NSB), Committee on Programs and Plans pursuant to NSF regulations (45 CFR part 614), the National Science Foundation Act, as amended (42 U.S.C. 1862n-5), and the Government in the Sunshine Act (5 U.S.C. 552b), hereby gives notice in regard to the scheduling of a teleconference for the transaction of NSB business and other matters specified, as follows:

DATE AND TIME: Wednesday October 19, 2011 at 3 p.m.-4 p.m., EDT.

SUBJECT MATTER: Chairman's Remarks, Updates on High-Performance Computing, Deep Underground Science and Engineering Laboratory and Giant Segmented Mirrored Telescope, and Other Committee Business.

STATUS: Closed.

This meeting will be held by teleconference originating at the National Science Board Office, National Science Foundation, 4201 Wilson Blvd., Arlington, VA 22230.

Please refer to the National Science Board Web site (http://www.nsf.gov/nsb/notices/) for information or schedule updates, or contact: Jennie Moehlmann, National Science Foundation, 4201 Wilson Blvd., Arlington, VA 22230. Telephone: (703) 292-7000.

Ann Bushmiller,
Senior Counsel to the National Science Board.

[FR Doc. 2011-26808 Filed 10-12-11; 4:15 pm]

BILLING CODE 7555-01-P